DEPARTMENT OF HEALTH AND HUMAN SERVICES

Centers for Disease Control and Prevention

[30Day-22-0457]

Agency Forms Undergoing Paperwork Reduction Act Review

In accordance with the Paperwork Reduction Act of 1995, the Centers for Disease Control and Prevention (CDC) has submitted the information collection request titled, “Aggregate Reports for Tuberculosis Program Evaluation” to the Office of Management and Budget (OMB) for review and approval. CDC previously published a “Proposed Data Collection Submitted for Public Comment and Recommendations” notice on March 14, 2022, to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Aggregate Reports for Tuberculosis Program Evaluation (OMB Control No. 0920-0457, Exp. 12/31/2022)—Extension—National Center for HIV, Viral Hepatitis, STD, and TB Prevention (NCHHSTP), Centers for Disease Control and Prevention (CDC).

Background and Brief Description

Centers for Disease Control and Prevention, National Center for HIV, Viral Hepatitis, STD, and TB Prevention, Division of Tuberculosis Elimination (CDC/NCHHSTP/DTBE) requests an Extension of the Aggregate Reports for Tuberculosis Program Evaluation information collection, previously approved under OMB Control No. 0920-0457. This request is for a three-year period.

The requested Extension allows awardees to address the change in the national strategies for TB control and prevention emphasizing treatment of individuals with latent TB infection (LTBI) and at high risks of progression to TB disease. This data collection will help programs to assess high-risk populations served and to evaluate the adaptation and effectiveness of new diagnostic tests and drug regimens in treating LTBI.

DTBE is the lead agency for tuberculosis elimination in the United States. To ensure the elimination of tuberculosis in the United States, CDC monitors indicators for key program activities, such as finding tuberculosis infections in recent contacts of cases, and in other persons likely to be infected, and providing therapy for latent tuberculosis infection. In 2000, CDC implemented two program evaluation reports for annual submission: (1) Aggregate report of follow-up and treatment for contacts to tuberculosis cases, and (2) Aggregate report of targeted testing and treatment for latent tuberculosis infection. The respondents for these reports are the 67 state and local tuberculosis control programs receiving federal cooperative agreement funding through DTBE. These reports emphasize treatment outcomes, high-priority target populations vulnerable to tuberculosis, and electronic report entry and submission to CDC through the National Tuberculosis Indicators Project (NTIP), a secure web-based system for program evaluation data. No other federal agency collects this type of national tuberculosis data. The Aggregate report of follow-up for contacts of tuberculosis and Aggregate report of targeted testing and treatment for latent tuberculosis infection are the only data source about latent tuberculosis infection for monitoring national progress toward tuberculosis elimination with these activities. CDC provides ongoing assistance in the preparation and utilization of these reports at the local and state levels of public health jurisdiction. CDC also provides respondents with technical support for NTIP access.

CDC requests OMB approval for an estimated 268 annual burden hours. Participation by respondents is voluntary, and there is no cost to participants other than their time.

Estimated Annualized Burden Hours
Type of respondent | Form name | Number of respondents | Number of responses per respondent | Average burden per response (in hours)
Health Department Awardee (State, Local, City, or other jurisdiction) | Follow-up and Treatment of Contacts to Tuberculosis Cases Form (3a) | 67 | 1 | 2
| Targeted Testing and Treatment for Latent Tuberculosis Infection (3b) | 67 | 1 | 2

Jeffrey M. Zirger,
Lead, Information Collection Review Office, Office of Scientific Integrity, Office of Science, Centers for Disease Control and Prevention.

[FR Doc. 2022-14757 Filed 7-11-22; 8:45 am]

BILLING CODE 4163-18-P